Proclamation 9923 of September 6, 2019

Opioid Crisis Awareness Week, 2019

By the President of the United States of America

A Proclamation

The opioid crisis has devastated communities across America and has stolen precious lives, leaving families with an unfillable void. During Opioid Crisis Awareness Week, we reaffirm our commitment to ending this terrible crisis and eradicating drug addiction from our society.

On average, 130 Americans die every day from an opioid overdose. Drug overdose is the leading cause of accidental death in the United States, and opioids are the most common drug used in cases of drug overdose. Since the start of the 21st century, our Nation has lost nearly the same number of lives to the opioid crisis as we lost in World War II.

My Administration is taking aggressive action to address this nationwide public health emergency. In 2018, our High Intensity Drug Trafficking Area program disrupted or dismantled nearly 3,000 drug trafficking organizations. During that operation, the Department of Justice seized enough fentanyl to kill more than 100,000 Americans out of our communities. Additionally, I released my Initiative to Stop Opioid Abuse and Reduce Drug Supply and Demand, which is preventing over-prescription, reducing the demand for drugs through education and awareness, and cutting off the flow of illicit drugs across our borders and into American communities. As a part of this Initiative, we are working with State and local partners to expand access to evidence-based addiction treatment in every part of our country. Further, I signed the bipartisan H.R. 6, the Substance Use-Disorder Prevention that Promotes Opioid Recovery and Treatment (SUPPORT) for Patients and Communities Act, the largest legislative effort ever to address a single drug crisis in our Nation's history. This law is expanding access to evidence-based treatment, protecting our communities from illicit drugs, investing more in sustained recovery, bringing those in treatment and recovery back into the workforce, and raising awareness of the dangers of illicitly imported synthetic opioids.

My Administration is determined to use every resource at our disposal to release the grip of addiction plaguing our citizens. This month, the Department of Health and Human Services announced $1.8 billion in new grant money to fight the opioid epidemic. These funds will be delivered to communities where help is most needed and will support State and local governments in obtaining high-quality, comprehensive data to save lives. Moreover, in order to break the cycle of addiction, we must prevent young Americans from ever trying drugs in the first place. To help succeed in this important cause, we launched a nationwide public ad campaign to educate young people about the dangers of misusing prescription opioids. This campaign has already reached 58 percent of young adults. These critical actions, combined with the record $6 billion in new funding I secured during my first 2 years in office to fuel the response to this crisis, are leading to results. Provisional data shows we are making progress, with overdose deaths declining for the first time since 1990.

It is crucial to remove the societal stigma surrounding those suffering from opioid use and other substance use disorders by approaching addiction as a treatable disease. We need to make it clear that treatment is available and effective, and that recovery is possible. Already, we are seeing encouraging progress toward ensuring that those struggling with addiction receive evidence-based treatment in order to begin the road to recovery. In 2018, 250,000 more Americans received medication-assisted treatment than in 2016. Through The Crisis Next Door platform, which my Administration launched last year, those who have been affected by the opioid crisis can help encourage other people struggling with addiction to seek the care they need.

As we observe Opioid Crisis Awareness Week, we strengthen our resolve to win the fight against the opioid epidemic. Together, we will ensure that all Americans have the opportunity for a brighter future, free from the oppression of drug addiction.

NOW, THEREFORE, I, DONALD J. TRUMP, President of the United States of America, by virtue of the authority vested in me by the Constitution and the laws of the United States, do hereby proclaim September 8 through September 14, 2019, as Opioid Crisis Awareness Week. I call upon my fellow Americans to observe this week with appropriate programs, ceremonies, religious services, and other activities that raise awareness about the prescription opioid and heroin epidemic and to consider concrete follow-up activities.

IN WITNESS WHEREOF, I have hereunto set my hand this sixth day of September, in the year of our Lord two thousand nineteen, and of the Independence of the United States of America the two hundred and forty-fourth.

[FR Doc. 2019-19929

Filed 9-11-19; 11:15 am]

Billing code 3295-F9-P